NATIONAL AERONAUTICS AND SPACE ADMINISTRATION

[Notice: (16-038)]

NASA Advisory Council; Science Committee; Ad Hoc Task Force on Big Data; Meeting

AGENCY: National Aeronautics and Space Administration.

ACTION: Notice of meeting.

SUMMARY: In accordance with the Federal Advisory Committee Act, Public Law 92-463, as amended, the National Aeronautics and Space Administration (NASA) announces a meeting of the Ad Hoc Task Force on Big Data. This task force reports to the NASA Advisory Council's Science Committee. The meeting will be held for the purpose of soliciting and discussing, from the scientific community and other persons, scientific and technical information relevant to big data.

DATES: Tuesday, June 28, 2016, 9:00 a.m.-5:00 p.m., Wednesday, June 29, 2016, 9:00 a.m.-5:00 p.m., and Thursday, June 30, 2016, 9:00 a.m. to 12:00 noon, Local Time.

ADDRESSES: NASA Goddard Space Flight Center, Building 28, Room E210, 8800 Greenbelt Road, Greenbelt, MD 20771.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. The meeting will also be available telephonically and by WebEx. You must use a touch tone phone to participate in this meeting. Any interested person may call the USA toll free conference call number 800-988-9663, passcode 4718658, to participate in this meeting by telephone. A toll number also is available, 1-517-308-9427 passcode 4718658. The WebEx link is https://nasa.webex.com/; the meeting number is 997 975 025 and the password is BigD@T@16-2. The agenda for the meeting includes the following topics:

—NASA's Science Data Cyber-Infrastructure

—Access to NASA Science Mission Data Repositories

—Big Data Best Practices in Government, Academia and Industry

—Federal Big Data Initiatives

—Resources and Concerns Specific to Big Data at NASA Goddard Space Flight Center

Attendees will be requested to sign a register and to comply with NASA security requirements, including the presentation of a valid picture ID to Security before access to the Goddard Space Flight Center. Due to the Real ID Act, any attendees with drivers licenses issued from non-compliant states must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states are: American Samoa, Arizona, Louisiana, Maine, Minnesota, New York, Oklahoma and Washington. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee. To expedite admittance, attendees with U.S. citizenship and Permanent Residents (green card holders) can provide full name and citizenship status 3 working days in advance by contacting by contacting Ms. Briana E. Horton, via email at briana.e.horton@nasa.gov or by fax at (301) 286-1714. It is imperative that the meeting be held on these dates to the scheduling priorities of the key participants.

Patricia D. Rausch,
Advisory Committee Management Officer, National Aeronautics and Space Administration.

[FR Doc. 2016-13033 Filed 6-1-16; 8:45 am]

BILLING CODE 7510-13-P